DEPARTMENT OF HEALTH AND HUMAN SERVICES

Health Resources and Services Administration

Agency Information Collection Activities: Proposed Collection: Public Comment Request; Information Collection Request Title: Biographical Sketch Form for Use With Applications to the Maternal and Child Health Bureau Research Grants OMB No. 0906-Reinstatement

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than May 1, 2023.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the HRSA Information Collection Clearance Officer, at (301) 443-1984.

SUPPLEMENTARY INFORMATION: When submitting comments or requesting information, please include the ICR title for reference.

Information Collection Request Title: Forms for Use with Applications to the Maternal and Child Health Bureau Research Grants, OMB No. 0906-Reinstatement.

Abstract: HRSA is requesting reinstatement of the Biographical Sketch Form for use with applications to the Maternal and Child Health Bureau Research Grants (Biographical Sketch) for HRSA's SF424 Research and Related (R&R) application package. These grants are funded by a number of authorities such as 42 U.S.C. 701(a)(2) (title V, section 501(a)(2) of the Social Security Act) and by 42 U.S.C. 280i-1(f) (title III, section 399BB(f) of the Public Health Service Act. The purpose of these grants is to advance the health and well-being of Maternal and Child Health populations and children and adolescents with autism spectrum disorder by supporting innovative, applied, and translational intervention research studies on critical issues affecting these populations.

Need and Proposed Use of the Information: HRSA plans to use the Biographical Sketch as a required element of the SF424 R&R application package. The applicants use the Biographical Sketch form to summarize the qualifications of each key personnel on their proposed research team, including education/training, positions and honors, contributions to science, and related experience. The grant reviewers will use this information to assess the capabilities of the research team to carry out the planned research project. The Biographical Sketch form also collects demographic data (race, ethnicity, and gender) for the Principal Investigator and key program staff or, for applicants that are uncomfortable reporting this information, they can mark their demographic information as “Not Reported/Unknown;” this will have no impact on funding decisions. Collecting demographic information allows HRSA to determine to what extent individuals of different backgrounds are participating. This information, in addition to other information including career stage, geographic location of the institution, and educational level assists HRSA in ensuring that federal grant and cooperative agreement awards are reaching diverse populations.

HRSA is considering several changes for the Biographical Sketch:

• Clarifying instructions: Provides the applicant more information on what should and should not be included on the biographical sketch.

• Removal of Section D: Section D: Related Experience has been removed.

• Removal of Section E: Section E: Additional Information: Research Support and/or Scholastic Performance Awards has been removed.

• “Some Other Race” Category: At the request of our applicants, this category was added.

Likely Respondents: Respondents are applicants to HRSA's Maternal and Child Health Bureau research programs.

Burden Statement: Burden includes the time expended by persons to generate, maintain, retain, disclose, or provide the information requested. This includes the time needed to review instructions; to develop, acquire, install, and utilize technology and systems for the purpose of collecting, validating, and verifying information, processing and maintaining information, disclosing and providing information. It also accounts for time to train personnel, respond to a collection of information, search data sources, complete and review the collection of information, and transmit or otherwise disclose the information. The total annual burden hours estimated for this Information Collection Request are summarized in the table below.

Total Estimated Annualized Burden Hours:

Form name | Number of respondents | Number of responses per respondent | Total responses | Average burden per response (in hours) | Total burden hours
Biographical Sketch Form | 200 | 5 | 1,000 | 1.75 | 1,750
Total | 200 | 5 | 1,000 | 1.75 | 1,750

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-04188 Filed 2-28-23; 8:45 am]

BILLING CODE 4165-15-P